DEPARTMENT OF HEALTH AND HUMAN SERVICES

DEPARTMENT OF AGRICULTURE

Announcement of the Second 2015 Dietary Guidelines Advisory Committee Meeting

AGENCY: Department of Health and Human Services, Office of the Secretary, Office of the Assistant Secretary for Health; and U.S. Department of Agriculture, Food, Nutrition and Consumer Services and Research, Education, and Economics.

ACTION: Notice.

SUMMARY: As stipulated by the Federal Advisory Committee Act (FACA), the U.S. Department of Health and Human Services (HHS), in collaboration with the U.S. Department of Agriculture (USDA), is hereby giving notice that a meeting of the 2015 Dietary Guidelines Advisory Committee (DGAC) will be held and will be open to the public. This meeting was originally scheduled for October 3-4, 2013, but was postponed due to the government shutdown.

DATES: This meeting will be held on January 13, 2014, from 8:00 a.m.-11:30 a.m. E.S.T. and January 14, 2014, from 8:00 a.m.-4:45 p.m. E.S.T. If the federal government in the Washington, DC area is closed for inclement weather on these days, the meeting will be canceled. The Office of Personnel Management notifies federal staff and the public of this at http://www.opm.gov/policy-data-oversight/snow-dismissal-procedures/current-status/.

ADDRESSES: The meeting will be accessible by webcast on the Internet or by attendance in-person. For in-person participants, the meeting will take place in the National Institutes of Health (NIH) Porter Building (Building 35), 9000 Rockville Pike, Bethesda, MD 20892.

FOR FURTHER INFORMATION CONTACT: Designated Federal Officer (DFO), 2015 DGAC, Richard D. Olson, M.D., M.P.H.; Office of Disease Prevention and Health Promotion, OASH/HHS; 1101 Wootton Parkway, Suite LL100 Tower Building; Rockville, MD 20852: Telephone: (240) 453-8280; Fax: (240) 453-8281; Lead USDA Co-Executive Secretary, Colette I. Rihane, M.S., R.D., Director, Nutrition Guidance and Analysis Division, Center for Nutrition Policy and Promotion, USDA; 3101 Park Center Drive, Room 1034; Alexandria, VA 22302; Telephone: (703) 305-7600; Fax: (703) 305-3300; and/or USDA Co-Executive Secretary, Shanthy A. Bowman, Ph.D., Nutritionist, Food Surveys Research Group, Beltsville Human Nutrition Research Center, Agricultural Research Service, USDA; 10300 Baltimore Avenue, BARC-West Bldg 005, Room 125; Beltsville, MD 20705-2350; Telephone: (301) 504-0619. Additional information about the 2015 DGAC and this meeting is available on the Internet at www.DietaryGuidelines.gov.

SUPPLEMENTARY INFORMATION: Under Section 301 of Public Law 101-445 (7 U.S.C. 5341, the National Nutrition Monitoring and Related Research Act of 1990, Title III) the Secretaries of Health and Human Services (HHS) and Agriculture (USDA) are directed to issue at least every five years a report titled Dietary Guidelines for Americans. The law instructs that this publication shall contain nutritional and dietary information and guidelines for the general public, shall be based on the preponderance of scientific and medical knowledge current at the time of publication, and shall be promoted by each federal agency in carrying out any federal food, nutrition, or health program. The Dietary Guidelines for Americans was issued voluntarily by HHS and USDA in 1980, 1985, and 1990; the 1995 edition was the first statutorily mandated report, followed by subsequent editions at the appropriate intervals. To assist with satisfying the mandate, a discretionary federal advisory committee is established every five years to provide independent, science-based advice and recommendations. The DGAC consists of a panel of experts who were selected from the public/private sector. Individuals who were selected to serve on the Committee have current scientific knowledge in the field of human nutrition and chronic disease.

Appointed Committee Members: The Secretaries of HHS and USDA appointed 15 individuals to serve as members of the 2015 DGAC in May 2013. The Committee currently has 14 members; it became necessary for one of the appointed members to resign from his position on the 2015 DGAC. Information on the DGAC membership is available at www.DietaryGuidelines.gov.

Authority: The 2015 DGAC is authorized under 42 U.S.C. 217a, Section 222 of the Public Health Service Act, as amended.

Committee's Task: The work of the DGAC is solely advisory in nature and time-limited. The Committee is tasked with developing recommendations based on the preponderance of current scientific and medical knowledge using a systematic review approach. The DGAC will examine the current Dietary Guidelines for Americans, take into consideration new scientific evidence and current resource documents, and develop a report that is to be given to the Secretaries of HHS and USDA. The report will outline science-based recommendations and rationales which will serve as the basis for developing the eighth edition of the Dietary Guidelines for Americans. It is planned for the Committee to hold approximately five public meetings to review and discuss recommendations. This will be the second meeting of the 2015 DGAC. Additional meeting dates, times, locations, and other relevant information will be announced at least 15 days in advance of each meeting via Federal Register notice. As stipulated in the charter, the Committee will be terminated after delivery of its final report to the Secretaries of HHS and USDA or two years from the date the charter was filed, whichever comes first.

Purpose of the Meeting: In accordance with FACA and to promote transparency of the process, deliberations of the Committee will occur in a public forum. At this meeting, the Committee will continue its deliberations.

Meeting Agenda: The meeting agenda will include (a) topic-specific presentations from guest experts identified by the Committee, (b) opportunity for the public to give oral testimony on day 2, (c) review of Committee work since the last public meeting, and (d) plans for future Committee work.

Meeting Registration: The meeting is open to the public. The meeting will be accessible by webcast or by attendance in-person. Registration is required for both web viewing and in-person attendance and is expected to open on December 4, 2013. To register, please go to www.DietaryGuidelines.gov and click on the link for “Meeting Registration.” To register by phone or to request a sign language interpreter or other special accommodations, please call National Capitol Contracting, Laura Walters at (703) 243-9696 by 5:00 p.m. E.S.T., January 6, 2014. Registration must include name, affiliation, phone number or email, days attending, and if participating via webcast or in-person.

Webcast Public Participation: After registering, individuals participating by webcast will receive webcast access information via email.

In-Person Public Participation and Building Access: For in-person participants, the meetings will be held in the National Institutes of Health (NIH) Porter Building (Building 35) as noted above in the Addresses section. Details regarding registration capacity and directions will be posted on www.DietaryGuidelines.gov. For in-person participants, check-in at the registration desk on-site at the meeting is required and will begin at 7:15 a.m. each day.

Oral Testimony: For the meeting originally scheduled for October 3-4, 2013, the Committee invited requests from the public to present three minutes of oral testimony. Individuals who were confirmed to speak or who were on standby will retain their designation and order for this rescheduled meeting. Further instructions for participation on January 14, 2014 (day 2) will be sent to those individuals.

Written Public Comments: Written comments from the public will continue to be accepted throughout the Committee's deliberative process. Written public comments can be submitted and/or viewed at www.DietaryGuidelines.gov using the “Submit Comments” and “Read Comments” links, respectively. Written comments received by December 31, 2013 will ensure transmission to the Committee prior to this meeting. As the Committee continues its work, it may request public comments on specific topics; these requests and any instructions for submitting requested comments will be posted on the Web site.

Meeting Documents: Documents pertaining to Committee deliberations, including meeting agendas, summaries, and transcripts will be available on www.DietaryGuidelines.gov under “Meetings,” and meeting materials will be available for public viewing at the meeting. Meeting information, thereafter, will continue to be accessible online, at the NIH Library, and upon request at the Office of Disease Prevention and Health Promotion, OASH/HHS; 1101 Wootton Parkway, Suite LL100 Tower Building; Rockville, MD 20852: Telephone (240) 453-8280; Fax: (240) 453-8281.

Dated: December 3, 2013.
Don Wright,
Deputy Assistant Secretary for Health, Office of Disease Prevention and Health Promotion, Office of the Assistant Secretary for Health, U.S. Department of Health and Human Services.
Dated: December 3, 2013.
Jackie Haven,
Acting Executive Director, Center for Nutrition Policy and Promotion, U.S. Department of Agriculture.
Dated: December 3, 2013.
Chavonda Jacobs-Young,
Acting Administrator, Agricultural Research Service, U.S. Department of Agriculture.

[FR Doc. 2013-29291 Filed 12-6-13; 8:45 am]

BILLING CODE 4150-32-P